DEPARTMENT OF ENERGY

Federal Energy Regulatory Commission

Notice of Joint Application for Amendment to License

April 28, 2000.

Take notice that the following hydroelectric application has been filed with the Commission and is available for public inspection:

a. Application Type: Request for amendment to license section (C)(2) and articles 59, 64, 65, 66, and 67.

b. Project No.: 5-055.

c. Dated Filed: April 21, 2000.

d. Applicants: PP&L Montana, L.L.C. (PPLM), the Confederated Salish and Kootenai Tribes of the Flathead Reservation (the Tribes), co-licensees, and the U.S. Department of the Interior (Interior).

e. Name of Project: Kerr Hydroelectric Project.

f. Location: The Kerr Project is located in Lake and Flathead Counties, Montana and partially on lands within the Flathead Indian Reservation.

g. Filed Pursuant to: Federal Power Act, 16 U.S.C. 791(a)-825(r).

h. Applicants' Contacts: For the Tribes, Joe Hovenkotter, The Confederated Salish and Kootenai Tribes of the Flathead Reservation, Tribal Legal Department, P.O. Box 278, Pablo, MT 59855 (406) 675-2700, Ext. 1169; For PPLM, David R. Poe, LeBoeuf, Lamb, Greene & MacRae LLP, 1875 Connecticut Avenue, N.W., Washington, DC 20009 (202) 986-8039; For Interior, Kerry O'Hara, Attorney of Record, Department of the Interior, 1849 C Street, NW, MS 6456, Washington, D.C. (202) 208-6967.

i. FERC Contact: Robert Grieve, (202) 219-2655, or e-mail address: robert.grieve@ferc.fed.us

j. Deadline for filing comments and recommendations, motions to intervene, and protests: June 8, 2000.

All documents (original and eight copies) should be filed with: David P. Boergers, Secretary, Federal Energy Regulatory Commission, 888 First Street, NE, Washington, DC 20426. Please include the project number on any comments and recommendations, motions to intervene and protests.

k. Description of Application: PPLM and the Tribes, co-licensees of the above-captioned hydroelectric project, and Interior have filed an application to amend section (C)(2) and articles 59, 64, 65, 66, and 67 of the Kerr Hydroelectric Project license, in order to facilitate settlement of litigation pending with respect to certain license conditions promulgated by Interior and included by the Commission in its orders of June 25, 1997 (79 FERC ¶61,376(1997)) and October 30, 1998 (85 FERC ¶61,164 (1998)).

l. Location of the Application: A copy of the application is available for inspection and reproduction at the Commission's Public Reference Room, located at 888 First Street, NE Room 2A, Washington, DC 20426 or by calling (202) 208-1371. The application may be viewed on the web at www.ferc.fed.us/online/rims.htm. Call (202) 208-2222 for assistance.

m. Comments, Protests, or Motions to Intevene—Anyone may submit comments, a protest or a motion to intervene in accordance with the requirements of the Commission's Rules of Practice and Procedure, 18 CFR 385.210, 385.211 or 385.214. In determining the appropriate action to take, the Commission will consider all protests or other comments filed, but only those who file a motion to intervene in accordance with the Commission's Rules may become a party to the proceedings. Any comments, protests or motions to intervene must be received on or before the specified comment date for this application.

Filing and Serving of Responsive Documents—Any filings must bear in all capital letters the title “COMMENTS”, or “RECOMMENDATIONS FOR TERMS AND CONDITIONS”, “PROTEST”, or “MOTION TO INTERVENE”, as applicable, and the Project number of the application to which the filing refers. Any of the above-named documents must be filed by providing an original and the number of copies provided by the Commission's regulations to the address listed in Section j. A copy of any motion to intervene must also be served upon each representative of the Applicants specified in the application.

Agency Comments—Federal, state and local agencies are invited to file comments on the described application in addition to other interested parties. A copy of the application may be obtained by agencies directly from the Applicants. If an agency does not file comments within the time specified for filing comments, it will be presumed to have no comments. One copy of an agency's comments must also be sent to the Applicants' representatives.

Linwood A. Watson, Jr.,
Acting Secretary.

[FR Doc. 00-11075 Filed 5-3-00; 8:45 am]

BILLING CODE 6717-01-M